DEPARTMENT OF COMMERCE

Foreign-Trade Zones Board

[B-12-2020]

Foreign-Trade Zone (FTZ) 87—Lake Charles, Louisiana; Authorization of Production Activity; Lake Charles LNG Export Company, LLC (Liquified Natural Gas Processing); Lake Charles, Louisiana

On February 24, 2020, Lake Charles LNG Export Company, LLC, submitted a notification of proposed production activity to the FTZ Board for its facility within FTZ 87, in Lake Charles, Louisiana.

The notification was processed in accordance with the regulations of the FTZ Board (15 CFR part 400), including notice in the Federal Register inviting public comment (85 FR 13859-13860, March 10, 2020). On June 23, 2020, the applicant was notified of the FTZ Board's decision that no further review of the activity is warranted at this time. The production activity described in the notification was authorized, subject to the FTZ Act and the FTZ Board's regulations, including § 400.14.

Dated: June 23, 2020.
Andrew McGilvray,
Executive Secretary.

[FR Doc. 2020-14002 Filed 6-29-20; 8:45 am]

BILLING CODE 3510-DS-P